Title 3—

The President

Proclamation 9217 of December 2, 2014

International Day of Persons With Disabilities, 2014

By the President of the United States of America

A Proclamation

Each year, the United States joins with the international community to celebrate the inherent dignity and worth of every person. In America and in countries around the world, individuals with disabilities support families, strengthen their communities, and contribute to the global economy. On International Day of Persons with Disabilities, we reaffirm the fundamental principle that those with disabilities are entitled to the same rights and freedoms as everyone else: to belong and fully participate in society, to live with respect and free from discrimination, and to make of their lives what they will.

Nearly a quarter century ago, the Congress came together to pass the Americans with Disabilities Act (ADA), a landmark civil rights bill and a historic milestone in our journey toward a more perfect Union. The first Nation on earth to comprehensively declare equality for its citizens with disabilities, we enshrined into law the promise of equal access, equal opportunity, and equal respect for every American. The ADA was a formal acknowledgement that individuals with disabilities deserve to live full and independent lives the way they choose, and today, my Administration continues to fight to give every person a fair shot at realizing their greatest potential. We are working to rigorously enforce the protections against disability-based discrimination and expand workforce training and employment opportunities for people with disabilities, including our wounded warriors and those with serious disabilities. Today's theme, “Sustainable Development: The promise of technology,” reminds us that as we strive to increase accessibility in our communities, we cannot allow the benefits of groundbreaking innovation to be out of reach for those who seek to participate fully in our democracy and economy.

Disability rights are not only civil rights to be enforced here at home; they are universal rights to be recognized and promoted around the globe. That is why I am proud that during my time in Office, the United States signed the Convention on the Rights of Persons with Disabilities, and why I continue to call on the Senate to provide its advice and consent to the ratification of what is the first new human rights convention of the 21st century. Around the world, more than 1 billion people experience a disability. These women, men, and children seek a fair chance to complete an education, succeed in a career, and support a family—and the United States stands with them wherever they live.

America continues to be the world leader on disability rights. Today, we celebrate the courage and commitment of all who have agitated and sacrificed to bring us to this point, and all who continue to press ahead toward greater access, opportunity, and inclusion. With advocates from around the world and all those whose lives have been touched by a disability, we can build on our progress. Let us recommit to fostering a society free of barriers and full of a deeper understanding of the value each person adds to our global community.

NOW, THEREFORE, I, BARACK OBAMA, President of the United States of America, by virtue of the authority vested in me by the Constitution and the laws of the United States, do hereby proclaim December 3, 2014, as International Day of Persons with Disabilities. I call on all Americans to observe this day with appropriate ceremonies, activities, and programs.

IN WITNESS WHEREOF, I have hereunto set my hand this second day of December, in the year of our Lord two thousand fourteen, and of the Independence of the United States of America the two hundred and thirty-ninth.

[FR Doc. 2014-28774

Filed 12-4-14; 11:15 am]

Billing code 3295-F5